ENVIRONMENTAL PROTECTION AGENCY

40 CFR Part 63

[EPA-HQ-OAR-2017-0015; FRL-5948.2-02-OAR]

RIN 2060-AV59

National Emission Standards for Hazardous Air Pollutants: Lime Manufacturing Plants Technology Review; Correction

AGENCY: Environmental Protection Agency (EPA).

ACTION: Final rule; technical correction.

SUMMARY: The Environmental Protection Agency (EPA) is making corrections to the National Emission Standards for Hazardous Air Pollutants for Lime Manufacturing Plants (Lime Manufacturing NESHAP) technology review final rule that appeared in the Federal Register on July 16, 2024. Following publication of this final rule, the EPA discovered inadvertent errors in the regulatory text and is correcting them in this action.

DATES: The final rule is effective on December 4, 2024.

ADDRESSES: The EPA has established a docket for this rulemaking under Docket ID No. EPA-HQ-OAR-2017-0015. All documents in the docket are listed on the https://www.regulations.gov/ website. Although listed, some information is not publicly available, e.g., Confidential Business Information (CBI) or other information whose disclosure is restricted by statute. Certain other material, such as copyrighted material, is not placed on the internet and will be publicly available only in hard copy form. Publicly available docket materials are available electronically through https://www.regulations.gov/.

FOR FURTHER INFORMATION CONTACT: Mr. Brian Storey, Mail Drop: D243-04, 109 T.W. Alexander Drive, P.O. Box 12055, RTP, North Carolina 27711; telephone number: (919) 541-1103; and email address: storey.brian@epa.gov.

Preamble acronyms and abbreviations. Throughout this document the use of “we,” “us,” or “our” is intended to refer to the EPA. We use multiple acronyms and terms in this preamble. While this list may not be exhaustive, to ease the reading of this preamble and for reference purposes, the EPA defines the following terms and acronyms here:

APA Administrative Procedure Act

BTF beyond the floor

CAA Clean Air Act

CFR Code of Federal Regulations

EPA Environmental Protection Agency

FR Federal Register

HAP hazardous air pollutants

MACT Maximum Achievable Control Technology

NAICS North American Industry Classification System

NESHAP National Emission Standards for Hazardous Air Pollutants

Organization of this document. The information in this preamble is organized as follows:

I. General Information

A. Does this action apply to me?

B. Where can I get a copy of this document and other related information?

C. Statutory Authority

D. Judicial Review and Administrative Reconsideration

II. Summary of Final Action

III. Summary of Cost, Environmental, and Economic Impacts

IV. Rulemaking Procedures

V. Statutory and Executive Order Reviews

SUPPLEMENTARY INFORMATION:

I. General Information

A. Does this action apply to me?

Regulated entities. Categories and entities potentially affected by this action are shown in table 1 of this preamble.

Table 1—NESHAP and Industrial Source Categories Affected by This Final Action
Source category and NESHAP | NAICS code ¹
Lime Manufacturing | 32741, 33111, 3314.
¹ North American Industry Classification System (NAICS).

Table 1 of this preamble is not intended to be exhaustive, but rather to provide a guide for readers regarding entities likely to be affected by the final action for the source category listed. To determine whether your facility is affected, you should examine the applicability criteria in the Lime Manufacturing NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/lime-manufacturing-plants-national-emission-standards-hazardous. Following publication in the Federal Register (FR), the EPA will post the FR version and key technical documents at the same website.

C. Statutory Authority

For major sources, the Clean Air Act (CAA) section 112(d)(2) provides that the technology-based NESHAP must reflect the maximum degree of emission reductions of hazardous air pollutants (HAP) achievable after considering cost, energy requirements, and non-air quality health and environmental impacts. These standards are commonly referred to as Maximum Achievable Control Technology (MACT) standards. CAA section 112(d)(3) also establishes a minimum control level for MACT standards, known as the MACT “floor.” The EPA must also consider control options that are more stringent than the floor, commonly referred to as “beyond-the-floor” (BTF) standards. Costs may not be considered when setting the MACT floor and may only be considered when determining whether BTF standards are appropriate.

D. Judicial Review and Administrative Reconsideration

Under Clean Air Act (CAA) section 307(b)(1), judicial review of this final action is available only by filing a petition for review in the United States Court of Appeals for the District of Columbia Circuit by February 3, 2025.

II. Summary of Final Action

The EPA finalized MACT standards for the lime manufacturing industry under CAA section 112(d) for 4 previously unregulated pollutants on July 16, 2024. The 4 pollutants regulated in the final rule included hydrogen chloride, mercury, total organic HAP, and dioxin/furans. Following publication of this final rule, the EPA discovered errors in the regulatory text and is correcting them in this action.

Specifically, the EPA is revising the Lime Manufacturing NESHAP July 16, 2024, final rule to correctly reference 40 CFR 63.7083(g). In the July 16, 2024, final rule amendatory text, 40 CFR 63.7083 was revised to include new compliance dates associated with the July 16, 2024, final rule. These additions were added to the section as paragraphs (c) and (d). The additions caused 40 CFR 63.7083(e) to be redesignated as 63.7083(g) in the July 16, 2024, final rule amendatory text. This action revises all applicable references in the rule that previously referenced 40 CFR 63.7083(e) to correctly reference 40 CFR 63.7083(g).

Additionally, the EPA is correcting 40 CFR 63.7083(h)(2) to correct the compliance date of the hydrogen chloride, mercury, total organic HAP, and dioxin/furan emissions limitations for new sources. The July 16, 2024, final rule inadvertently set the compliance date for these sources as the date the final rule was published in the Federal Register (89 FR 57738, July 16, 2024). This date is being revised to correctly identify the compliance date for these sources as January 5, 2023, or the date of initial startup, whichever is later. This date represents the date that these sources must be in compliance, and is based on the date the proposed amendments were published in the Federal Register (88 FR 805, January 5, 2023).

Lastly, the EPA is correcting 40 CFR 63.7112(o), which inadvertently referenced “total hydrocarbons” in the introductory paragraph and equation 5 of paragraph (o) in the July 16, 2024, final rule. The EPA is correcting these errors by revising 40 CFR 63.7112(o) to reference “total organic HAP” instead.

These corrections make the regulatory text consistent with what the preamble to the final rule describes. The EPA finds that there is good cause for finalizing these technical corrections without public notice or hearing, as explained in greater detail in section IV of this preamble. Notice and comment procedures are unnecessary here because the public is already aware of this action and its contents. See 5 U.S.C. 553(b)(B).

III. Summary of Cost, Environmental, and Economic Impacts

This action will have no cost, environmental, or economic impacts beyond the impacts presented in the July 16, 2024, Lime Manufacturing NESHAP final rule (89 FR 57738).

IV. Rulemaking Procedures

The EPA's authority for the rulemaking procedures followed in this action is provided by the Administrative Procedure Act (APA), 5 U.S.C. 553. In general, an agency issuing a rule must provide prior notice and an opportunity for public comment, but APA section 553(b)(B) includes an exemption from notice-and-comment requirements “when the agency for good cause finds (and incorporates the finding and a brief statement of reasons therefor in the rule issued) that notice and public procedure thereon are impracticable, unnecessary, or contrary to the public interest.” This action is being issued without prior notice or opportunity for public comment because the EPA finds that the APA “good cause” exemption from notice-and-comment requirements applies here.

Following notice-and-comment procedures is unnecessary for this action. This action corrects technical errors, correctly referencing 40 CFR 63.7083(g), correctly referencing the compliance date for new or reconstructed sources in 40 CFR 63.7083(h)(2) and correcting the references to “total hydrocarbons” in the text and in equation 5 of 40 CFR 63.7112(o) in the July 16, 2024, rule. It is critical to timely correct the identified error to avoid confusion.

This action is effective immediately upon publication. The APA typically requires publication of a final rule to precede its effective date by at least 30 days unless, as relevant here, the agency finds good cause to make the rule effective sooner. APA section 553(b)(B). Under APA section 553(d), these technical corrections both necessary and beneficial to regulated entities in understanding and complying with the final rule's requirements. Further, because this rule does not impose any new regulatory requirements, the regulated community does not need time to prepare for it to come into effect. See Omnipoint Corp. v. Fed. Commc'n Comm'n, 78 F.3d 620, 630 (D.C. Cir. 1996) (in determining whether good cause exists to make a rule immediately effective, an agency should “balance the necessity for immediate implementation against principles of fundamental fairness which require that all affected persons be afforded a reasonable amount of time to prepare for the effective date of its ruling”).

Good cause exists for this rule to be made immediately effective. The EPA has balanced the necessity for immediate implementation against the benefits of delaying implementation. Because this rule makes technical corrections to a rule that has already been promulgated, the public is aware of the content of the rule. Making the technical corrections effective immediately will make the regulatory text consistent with what the proposed rule and the preamble to the final rule have described.

V. Statutory and Executive Order Reviews

For a complete discussion of all the statutes, executive orders and administrative requirements applicable to this action, see the final rule published in the Rules and Regulations section of the Federal Register (89 FR 57738).

List of Subjects in 40 CFR Part 63

Environmental protection, Administrative practices and procedures, Air pollution control, Hazardous substances, Intergovernmental relations, Reporting and recordkeeping requirements.

Michael S. Regan,
Administrator.

For the reasons stated in the preamble, the EPA amends title 40, chapter I, part 63 of the Code of Federal Regulations as follows:

PART 63—NATIONAL EMISSION STANDARDS FOR HAZARDOUS AIR POLLUTANTS FOR SOURCE CATEGORIES

1. The authority citation for part 63 continues to read as follows:

Authority: 42 U.S.C. 7401, et seq.

Subpart AAAAA—National Emission Standards for Hazardous Air Pollutants for Lime Manufacturing Plants

2. Amend § 63.7083 by revising paragraph (h)(2) to read as follows:

§ 63.7083 When do I have to comply with this subpart?

* * * * *

(h) * * *

(2) If your affected source commenced construction or reconstruction after July 16, 2024, then the compliance date for HCl, mercury, total organic HAP, and D/F emissions limitations is January 5, 2023, or the date of initial startup, whichever is later.

3. Amend § 63.7090 by revising paragraph (c) to read as follows:

§ 63.7090 What emission limitations must I meet?

* * * * *

(c) On or after the relevant compliance date for your source as specified in § 63.7083(g), you must meet each startup and shutdown period emission limit in table 2 to this subpart that applies to you.

* * * * *

4. Revise § 63.7100 to read as follows:

§ 63.7100 What are my general requirements for complying with this subpart?

(a) Prior to the relevant compliance date for your source as specified in § 63.7083(g), you must be in compliance with the emission limitations (including operating limits) in this subpart at all times, except during periods of startup, shutdown, and malfunction. On and after the relevant compliance date for your source as specified in § 63.7083(g), you must be in compliance with the applicable emission limitations (including operating limits) at all times. You may operate outside of the established operating parameter limit(s) during performance tests in order to establish new operating limits.

(b) Prior to the relevant compliance date for your source as specified in § 63.7083(g), you must be in compliance with the opacity and visible emission (VE) limits in this subpart at all times, except during periods of startup, shutdown, and malfunction. On and after the relevant compliance date for your source as specified in § 63.7083(g), you must be in compliance with the applicable opacity and VE limits at all times.

(c) Prior to the relevant compliance date for your source as specified in § 63.7083(g), you must always operate and maintain your affected source, including air pollution control and monitoring equipment, according to the provisions in § 63.6(e)(1)(i). On and after the relevant compliance date for your source as specified in § 63.7083(g), you must always operate and maintain any affected source, including associated air pollution control equipment and monitoring equipment, in a manner consistent with safety and good air pollution control practices for minimizing emissions. The general duty to minimize emissions does not require the owner or operator to make any further efforts to reduce emissions if levels required by the applicable standard have been achieved. Determination of whether such operation and maintenance procedures are being used will be based on information available to the Administrator which may include, but is not limited to, monitoring results, review of operation and maintenance procedures, review of operation and maintenance records, and inspection of the source.

(d) You must prepare and implement for each LMP, a written operations, maintenance, and monitoring (OM&M) plan. You must submit the plan to the applicable permitting authority for review and approval as part of the application for a 40 CFR part 70 or 40 CFR part 71 permit. Any subsequent changes to the plan must be submitted to the applicable permitting authority for review and approval. Pending approval by the applicable permitting authority of an initial or amended plan, you must comply with the provisions of the submitted plan. Each plan must contain the following information:

(1) Process and control device parameters to be monitored to determine compliance, along with established operating limits or ranges, as applicable, for each emission unit.

(2) A monitoring schedule for each emission unit.

(3) Procedures for the proper operation and maintenance of each emission unit and each air pollution control device used to meet the applicable emission limitations and operating limits in tables 1, 2, and 3 to this subpart, respectively. On and after the relevant compliance date for your source as specified in § 63.7083(g), your OM&M plan must address periods of startup and shutdown.

(4) Procedures for the proper installation, operation, and maintenance of monitoring devices or systems used to determine compliance, including:

(i) Calibration and certification of accuracy of each monitoring device;

(ii) Performance and equipment specifications for the sample interface, parametric signal analyzer, and the data collection and reduction systems;

(iii) Prior to the relevant compliance date for your source as specified in § 63.7083(g), ongoing operation and maintenance procedures in accordance with the general requirements of § 63.8(c)(1)(i) and (ii), (c)(3), and (c)(4)(ii). On and after the relevant compliance date for your source as specified in § 63.7083(g), ongoing operation and maintenance procedures in accordance with the general requirements of paragraph (c) of this section and §§ 63.8(c)(1)(ii), (c)(3), and (c)(4)(ii); and

(iv) Ongoing data quality assurance procedures in accordance with the general requirements of § 63.8(d).

(5) Procedures for monitoring process and control device parameters.

(6) Corrective actions to be taken when process or operating parameters or add-on control device parameters deviate from the operating limits specified in table 3 to this subpart, including:

(i) Procedures to determine and record the cause of a deviation or excursion, and the time the deviation or excursion began and ended; and

(ii) Procedures for recording the corrective action taken, the time corrective action was initiated, and the time and date the corrective action was completed.

(7) A maintenance schedule for each emission unit and control device that is consistent with the manufacturer's instructions and recommendations for routine and long-term maintenance.

(e) Prior to the relevant compliance date for your source as specified in § 63.7083(g), you must develop a written startup, shutdown, and malfunction plan (SSMP) according to the provisions in § 63.6(e)(3).

5. Amend § 63.7112 by revising paragraphs (b), (c), (m), and (o) to read as follows:

§ 63.7112 What performance tests, design evaluations, and other procedures must I use?

* * * * *

(b) Prior to the relevant compliance date for your source as specified in § 63.7083(g), each performance test must be conducted according to the requirements in § 63.7(e)(1) and under the specific conditions specified in table 5 to this subpart. Beginning July 16, 2024, each performance test must include the methods specified in rows 19-24 of table 5 to this subpart. On and after the relevant compliance date for your source as specified in § 63.7083(g), each performance test must be conducted based on representative performance (i.e., performance based on normal operating conditions) of the affected source and under the specific conditions in table 5 to this subpart. Representative conditions exclude periods of startup and shutdown. The owner or operator may not conduct performance tests during periods of malfunction. The owner or operator must record the process information that is necessary to document operating conditions during the test and include in such record an explanation to support that such conditions represent normal operation. Upon request, the owner or operator shall make available to the Administrator such records as may be necessary to determine the conditions of performance tests.

(c) Prior to the relevant compliance date for your source as specified in § 63.7083(g), you may not conduct performance tests during periods of startup, shutdown, or malfunction, as specified in § 63.7(e)(1). On and after the relevant compliance date for your source as specified in § 63.7083(g), you may not conduct performance tests during periods of startup, shutdown, or malfunction, as specified in § 63.7112(b).

* * * * *

(m) On and after the relevant compliance date for your source as specified in § 63.7083(g), during startup, kilns must be tested hourly to determine when lime product meets the definition of on-specification lime product.

* * * * *

(o) The concentration of total organic HAP and dioxins/furans shall be corrected to 7 percent oxygen using equation 5 to this paragraph (o):

Equation 5 to Paragraph (o)

Where:

C7% = concentration of total organic HAP, ppmv on a dry basis or dioxins/furans in ng/dscm corrected to 7 percent oxygen.

Cunc = uncorrected total organic HAP, ppmv on a dry basis or dioxins/furans in ng/dscm.

CO2 = concentration of oxygen (percent).

6. Amend § 63.7121 by revising paragraph (d) to read as follows:

§ 63.7121 How do I demonstrate continuous compliance with the emission limitations standard?

* * * * *

(d) Prior to the relevant compliance date for your source as specified in § 63.7083(g), consistent with §§ 63.6(e) and 63.7(e)(1), deviations that occur during a period of startup, shutdown, or malfunction are not violations if you demonstrate to the Administrator's satisfaction that you were operating in accordance with § 63.6(e)(1). The Administrator will determine whether deviations that occur during a period of startup, shutdown, or malfunction are violations, according to the provisions in § 63.6(e).

* * * * *

7. Amend § 63.7130 by revising paragraph (e) introductory text to read as follows:

§ 63.7130 What notifications must I submit and when?

* * * * *

(e) If you are required to conduct a performance test, design evaluation, opacity observation, VE observation, or other initial compliance demonstration as specified in table 4 or 5 to this subpart, you must submit a Notification of Compliance Status according to § 63.9(h)(2)(ii). Beginning on the relevant compliance date for your source as specified in § 63.7083(g), submit all subsequent Notification of Compliance Status following the procedure specified in § 63.7131(h).

* * * * *

8. Amend § 63.7131 by revising paragraphs (b)(6), (c)(4) through (6), (d) introductory text, and (e) introductory text to read as follows:

§ 63.7131 What reports must I submit and when?

* * * * *

(b) * * *

(6) Beginning on the relevant compliance date for your source as specified in § 63.7083(g), submit all subsequent compliance reports following the procedure specified in paragraph (h) of this section.

(c) * * *

(4) Prior to the relevant compliance date for your source as specified in § 63.7083(g), if you had a startup, shutdown or malfunction during the reporting period and you took actions consistent with your SSMP, the compliance report must include the information in § 63.10(d)(5)(i).

(5) If there were no deviations from any emission limitations (emission limit, operating limit, opacity limit, and VE limit) that apply to you, the compliance report must include a statement that there were no deviations from the emission limitations during the reporting period.

(6) If there were no periods during which the continuous monitoring systems (CMS) were out-of-control as specified in § 63.8(c)(7), a statement that there were no periods during which the CMS were out-of-control during the reporting period.

* * * * *

(d) For each deviation from an emission limitation (emission limit, operating limit, opacity limit, and VE limit) that occurs at an affected source where you are not using a CMS to comply with the emission limitations in this subpart, the compliance report must contain the information specified in paragraphs (c)(1) through (4) and (d)(1) and (2) of this section. The deviations must be reported in accordance with the requirements in § 63.10(d) prior to the relevant compliance date for your source as specified in § 63.7083(g) and the requirements in § 63.10(d)(1) through (4) beginning on the relevant compliance date for your source as specified in § 63.7083(g).

* * * * *

(e) For each deviation from an emission limitation (emission limit, operating limit, opacity limit, and VE limit) occurring at an affected source where you are using a CMS to comply with the emission limitation in this subpart, you must include the information specified in paragraphs (c)(1) through (4) and (e)(1) through (11) of this section, except that beginning on the relevant compliance date for your source as specified in § 63.7083(g), the semiannual compliance report must also include the information included in paragraph (e)(12) of this section. This includes periods of startup, shutdown, and malfunction.

* * * * *

9. Amend § 63.7132 by revising paragraph (a)(2) introductory text to read as follows:

§ 63.7132 What records must I keep?

(a) * * *

(2) Prior to the relevant compliance date for your source as specified in § 63.7083(g), the records in § 63.6(e)(3)(iii) through (v) related to startup, shutdown, and malfunction. On and after the relevant compliance date for your source as specified in § 63.7083(g), the records in paragraphs (a)(2)(i) and (ii) of this section.

* * * * *

10. Amend § 63.7143 by revising the definition of “deviation” to read as follows:

§ 63.7143 What definitions apply to this subpart?

* * * * *

Deviation means any instance in which an affected source, subject to this subpart, or an owner or operator of such a source:

(1) Fails to meet any requirement or obligation established by this subpart, including but not limited to any emission limitation (including any operating limit);

(2) Fails to meet any term or condition that is adopted to implement an applicable requirement in this subpart and that is included in the operating permit for any affected source required to obtain such a permit; or

(3) Prior to the relevant compliance date for your source as specified in § 63.7083(g), fails to meet any emission limitation (including any operating limit) in this subpart during startup, shutdown, or malfunction, regardless of whether or not such failure is allowed by this subpart.

11. Revise table 2 to subpart AAAAA to read as follows:

Table 2 to Subpart AAAAA of Part 63—Startup and Shutdown Emission Limits for Kilns and Coolers
[As required in § 63.7090(b), on and after the relevant compliance date for your source as specified in § 63.7083(g), you must meet each emission limit in the following table that applies to you.]
For . . . | You must meet the following emission limit | You have demonstrated compliance, if after following the requirements in § 63.7112 . . .
1. All new and existing lime kilns and their associated coolers equipped with an FF or an ESP during each startup | Emissions must not exceed 15 percent opacity (based on startup period block average) | i. Installed, maintained, calibrated and operated a COMS as required by 40 CFR part 63, subpart A, General Provisions and according to PS-1 of appendix B to part 60 of this chapter, except as specified in § 63.7113(g)(2); ii. Collected the COMS data at a frequency of at least once every 15 seconds, determining block averages for each startup period and demonstrating for each startup block period the average opacity does not exceed 15 percent.
2. All existing lime kilns and their associated coolers that have a wet scrubber during each startup | See item 2.b of table 3 of subpart AAAAA for emission limit | See item 1 of table 6 of subpart AAAAA for requirements for demonstrating compliance.
3. All new and existing lime kilns and their associated coolers equipped with an FF or an ESP during shutdown | Emissions must not exceed 15 percent opacity (based on 6-minute average opacity for any 6-minute block period does not exceed 15 percent) | i. Installed, maintained, calibrated and operated a COMS as required by 40 CFR part 63, subpart A, General Provisions and according to PS-1 of appendix B to part 60 of this chapter, except as specified in § 63.7113(g)(2); ii. Collecting the COMS data at a frequency of at least once every 15 seconds, determining block averages for each 6-minute period and demonstrating for each 6-minute block period the average opacity does not exceed 15 percent.
4. All existing lime kilns and their associated coolers that have a wet scrubber during shutdown | See item 2.b of table 3 of subpart AAAAA for emission limit | See item 1 of table 6 of subpart AAAAA for requirements for demonstrating compliance.

12. Revise tables 5 and 6 to subpart AAAAA to read as follows:

Table 5 to Subpart AAAAA of Part 63—Requirements for Performance Tests
[As required in § 63.7112, you must conduct each performance test in the following table that applies to you.]
For . . . | You must . . . | Using . . . | According to the following requirements . . .
1. Each lime kiln and each associated lime cooler, if there is a separate exhaust to the atmosphere from the associated lime cooler | Select the location of the sampling ports and the number of traverse points | Method 1 or 1A of appendix A to part 60 of this chapter; and § 63.6(d)(1)(i) | Sampling sites must be located at the outlet of the control device(s) and prior to any releases to the atmosphere.
2. Each lime kiln and each associated lime cooler, if there is a separate exhaust to the atmosphere from the associated lime cooler | Determine velocity and volumetric flow rate | Method 2, 2A, 2C, 2D, 2F, or 2G in appendix A to part 60 of this chapter | Not applicable.
3. Each lime kiln and each associated lime cooler, if there is a separate exhaust to the atmosphere from the associated lime cooler | Conduct gas molecular weight analysis | Method 3, 3A, or 3B in appendix A to part 60 of this chapter | You may use manual procedures (but not instrumental procedures) of ASME PTC 19.10-1981—Part 10 (available for purchase from Three Park Avenue, New York, NY 10016-5990) as an alternative to using Method 3B.
4. Each lime kiln and each associated lime cooler, if there is a separate exhaust to the atmosphere from the associated lime cooler | Measure moisture content of the stack gas | Method 4 in appendix A to part 60 of this chapter | Not applicable.
5. Each lime kiln and each associated lime cooler, if there is a separate exhaust to the atmosphere from the associated lime cooler, and which uses a negative pressure PM control device | Measure PM emissions | Method 5 in appendix A to part 60 of this chapter | Conduct the test(s) when the source is operating at representative operating conditions in accordance with § 63.7(e) before the relevant compliance date for your source as specified in § 63.7083(g) and § 63.7112(b) on and after the relevant compliance date for your source as specified in § 63.7083(g); the minimum sampling volume must be 0.85 dry standard cubic meter (dscm) (30 dry standard cubic foot (dscf)); if there is a separate lime cooler exhaust to the atmosphere, you must conduct the Method 5 test of the cooler exhaust concurrently with the kiln exhaust test.
6. Each lime kiln and each associated lime cooler, if there is a separate exhaust to the atmosphere from the associated lime cooler, and which uses a positive pressure FF or ESP | Measure PM emissions | Method 5D in appendix A to part 60 of this chapter | Conduct the test(s) when the source is operating at representative operating conditions in accordance with § 63.7(e) before the relevant compliance date for your source as specified in § 63.7083(g) and § 63.7112(b) on and after the relevant compliance date for your source as specified in § 63.7083(g); If there is a separate lime cooler exhaust to the atmosphere, you must conduct the Method 5 or 5D test of the separate cooler exhaust concurrently with the kiln exhaust test. Refer to item 5 of this table for sampling time and volume requirements.
7. Each lime kiln | Determine the mass rate of stone feed to the kiln during the kiln performance test | Any suitable device | Calibrate and maintain the device according to manufacturer's instructions; the measuring device used must be accurate to within ±5 percent of the mass rate of stone feed over its operating range.
8. Each lime kiln equipped with a wet scrubber | Establish the operating limit for the average gas stream pressure drop across the wet scrubber during the PM and HCl performance test(s) | Data for the gas stream pressure drop measurement device during the kiln performance test | The continuous pressure drop measurement device must be accurate within plus or minus 1 percent; you must collect the pressure drop data during the period of the performance test and determine the operating limit according to § 63.7112(j).
9. Each lime kiln equipped with a wet scrubber | Establish the operating limit for the average liquid flow rate to the scrubber during the PM and HCl performance test(s) | Data from the liquid flow rate measurement device during the kiln performance test | The continuous scrubbing liquid flow rate measuring device must be accurate within plus or minus 1 percent; you must collect the flow rate data during the period of the performance test and determine the operating limit according to § 63.7112(j).
10. Each lime kiln equipped with a FF or ESP that is monitored with a PM detector | Have installed and have operating the BLDS or PM detector prior to the PM performance test | Standard operating procedures incorporated into the OM&M plan | According to the requirements in § 63.7113(d) or (e), respectively.
11. Each lime kiln equipped with a FF or ESP that is monitored with a COMS | Have installed and have operating the COMS prior to the performance test | Standard operating procedures incorporated into the OM&M plan and as required by 40 CFR part 63, subpart A, General Provisions and according to PS-1 of appendix B to part 60 of this chapter, except as specified in § 63.7113(g)(2) | According to the requirements in § 63.7113(g).
12. Each stack emission from a PSH operation, vent from a building enclosing a PSH operation, or set of multiple storage bins with combined stack emissions, which is subject to a PM emission limit | Measure PM emissions | Method 5 or Method 17 in appendix A to part 60 of this chapter | The sample volume must be at least 1.70 dscm (60 dscf); for Method 5, if the gas stream being sampled is at ambient temperature, the sampling probe and filter may be operated without heaters; and if the gas stream is above ambient temperature, the sampling probe and filter may be operated at a temperature high enough, but no higher than 121 °C (250 °F), to prevent water condensation on the filter (Method 17 may be used only with exhaust gas temperatures of not more than 250 °F).
13. Each stack emission from a PSH operation, vent from a building enclosing a PSH operation, or set of multiple storage bins with combined stack emissions, which is subject to an opacity limit | Conduct opacity observations | Method 9 in appendix A to part 60 of this chapter | The test duration must be for at least 3 hours and you must obtain at least thirty, 6-minute averages.
14. Each stack emissions source from a PSH operation subject to a PM or opacity limit, which uses a wet scrubber | Establish the average gas stream pressure drop across the wet scrubber during the PM and HCl performance test(s) | Data for the gas stream pressure drop measurement device during the PSH operation stack performance test | The pressure drop measurement device must be accurate within plus or minus 1 percent; you must collect the pressure drop data during the period of the performance test and determine the operating limit according to § 63.7112(j).
15. Each stack emissions source from a PSH operation subject to a PM or opacity limit, which uses a wet scrubber | Establish the operating limit for the average liquid flow rate to the scrubber during the PM and HCl performance test(s) | Data from the liquid flow rate measurement device during the PSH operation stack performance test | The continuous scrubbing liquid flow rate measuring device must be accurate within plus or minus 1 percent; you must collect the flow rate data during the period of the performance test and determine the operating limit according to § 63.7112(j).
16. Each FF that controls emissions from only an individual, enclosed, new or existing storage bin | Conduct opacity observations | Method 9 in appendix A to part 60 of this chapter | The test duration must be for at least 1 hour and you must obtain ten 6-minute averages.
17. Fugitive emissions from any PSH operation subject to an opacity limit | Conduct opacity observations | Method 9 in appendix A to part 60 of this chapter | The test duration must be for at least 3 hours, but the 3-hour test may be reduced to 1 hour if, during the first 1-hour period, there are no individual readings greater than 10 percent opacity and there are no more than three readings of 10 percent during the first 1-hour period.
18. Each building enclosing any PSH operation, that is subject to a VE limit | Conduct VE check | The specifications in § 63.7112(k) | The performance test must be conducted while all affected PSH operations within the building are operating; the performance test for each affected building must be at least 75 minutes, with each side of the building and roof being observed for at least 15 minutes.
19. Each lime kiln | Measure hydrogen chloride | Method 320 or 321 of appendix A of this part or ASTM 6348-12e1 (Note 1) | The test duration must be at least one hour. HCl must be used for the analyte spiking. For a positive pressure FF or ESP, determine the number of sampling points per the stratification check procedures of section 8.1.2 of Method 7E using the sample points determined using the procedures of Section 8 of EPA Method 5D.
20. Each lime kiln | Measure mercury | Method 29 or 30B Appendix A to part 60 of this chapter or ASTM D6784-16 | For Method 29 and ASTM D6784-16 the test duration must be at least two hours and the sample volume must be at least 1.70 dscm (60 dscf). For Method 30B, the test duration must be at least one hour and the sample volume at least 100 liters. For a positive pressure FF or ESP, use the procedures of Section 8 of EPA Method 5D for sampling points.
21. Each lime kiln | Measure total organic HAP ² | Method 18 and/or 320 in appendix A to part 60 of this chapter and/or ASTM D6348-12e1 ¹ | The test duration must be at least 1 hour. For EPA Method 320 and ASTM D6348-12e1, for a positive pressure FF or ESP, determine the number of sampling points per the stratification check procedures of section 8.1.2 of Method 7E using the sample points determined using the procedures of Section 8 of EPA Method 5D.
22. Each lime kiln | Measure dioxins/furans | Method 23 in Appendix A to part 60 of this chapter | The test duration must be at least 3 hours and the must be at least 3 dscm (106 dscf). For a positive pressure FF or ESP, use the procedures of Section 8 of EPA Method 5D for sampling points. When calculating TEQ, zero may be used for congeners that are below the EDL.
23. Each lime kiln equipped with dry sorbent injection | Establish the operating limit for the dry sorbent flow rate during the HCl performance test | Data for the dry sorbent flow rate device during the HCl performance test | The flow monitor must meet the criteria in § 63.7113(h); you must collect the dry sorbent flow rate data during the period of the HCl performance test and determine the operating limit according to § 63.7112(j).
24. Each lime kiln equipped with a thermal oxidizer | Establish the operating limit for the combustion chamber temperature during the total organic HAP and D/F performance test(s) | Data for the temperature device during the total organic HAP and dioxin/furan performance test(s) | The temperature device must meet the criteria in § 63.7113(i); you must collect the temperature data during the period of the total organic HAP and D/F performance test(s) and determine the operating limit according to § 63.7112(j).
25. Each lime kiln equipped with activated carbon injection | Establish the operating limit for the combustion chamber temperature during the total organic HAP, D/F, and mercury performance test(s) | Data for the activated carbon flow rate device during the total organic HAP, dioxin/furan, and mercury performance test(s) | The flow monitor must meet the criteria in § 63.7113(h); you must collect the activated carbon flow rate data during the period of the total organic HAP, D/F, and mercury performance test(s)and determine the operating limit according to § 63.7112(j).
¹ When using ASTM D6348-12e1 (1) the test plan preparation and implementation in the Annexes to ASTM D6348-12e1, sections A1 through A8 are mandatory, (2) In ASTM D6348-12e1 Annex A5 (Analyte Spiking Technique), the percent (%) R must be determined for each target analyte (Equation A5.5). In order for the test data to be acceptable for a compound, %R must be 70% ≥ R ≤ 130%. If the %R value does not meet this criterion for a target compound, the test data is not acceptable for that compound and the test must be repeated for that analyte (i.e., the sampling and/or analytical procedure should be adjusted before a retest). The %R value for each compound must be reported in the test report, and all field measurements must be corrected with the calculated %R value for that compound according to: Reported Results = ((Measured Concentration in Stack))/(%R) × 100.
² Total Organic HAP is the sum of the concentrations of compounds of formaldehyde, acetaldehyde, toluene, benzene, m-xylene, p-xylene, o-xylene, styrene, ethyl benzene, and naphthalene.

Table 6 to Subpart AAAAA of Part 63—Continuous Compliance With Operating Limits
[As required in § 63.7121, you must demonstrate continuous compliance with each operating limit listed in table 3 to subpart AAAAA that applies to you, according to the following table.]
For . . . | For the following operating limit . . . | You must demonstrate continuous compliance by . . .
1. Each lime kiln controlled by a wet scrubber | Maintain the 3-hour block average exhaust gas stream pressure drop across the wet scrubber greater than or equal to the pressure drop operating limit established during the performance test; and maintain the 3-hour block average scrubbing liquid flow rate greater than or equal to the flow rate operating limit established during the performance test | Collecting the wet scrubber operating data according to all applicable requirements in § 63.7113 and reducing the data according to § 63.7113(a); maintaining the 3-hour block average exhaust gas stream pressure drop across the wet scrubber greater than or equal to the pressure drop operating limit established during the performance test; and maintaining the 3-hour block average scrubbing liquid flow rate greater than or equal to the flow rate operating limit established during the performance test (the continuous scrubbing liquid flow rate measuring device must be accurate within ±1% and the continuous pressure drop measurement device must be accurate within ±1%).
2. Each lime kiln or lime cooler equipped with a FF and using a BLDS, and each lime kiln equipped with an ESP or FF using a PM detector | a. Maintain and operate the FF or ESP such that the bag leak or PM detector alarm, is not activated and alarm condition does not exist for more than 5 percent of the total operating time in each 6-month period | (i) Operating the FF or ESP so that the alarm on the bag leak or PM detection system is not activated and an alarm condition does not exist for more than 5 percent of the total operating time in each 6-month reporting period; and continuously recording the output from the BLD or PM detection system; and (ii) Each time the alarm sounds and the owner or operator initiates corrective actions within 1 hour of the alarm, 1 hour of alarm time will be counted (if the owner or operator takes longer than 1 hour to initiate corrective actions, alarm time will be counted as the actual amount of time taken by the owner or operator to initiate corrective actions); if inspection of the FF or ESP system demonstrates that no corrective actions are necessary, no alarm time will be counted.
3. Each stack emissions source from a PSH operation subject to an opacity limit, which is controlled by a wet scrubber | Maintain the 3-hour block average exhaust gas stream pressure drop across the wet scrubber greater than or equal to the pressure drop operating limit established during the performance test; and maintain the 3-hour block average scrubbing liquid flow rate greater than or equal to the flow rate operating limit established during the performance test | Collecting the wet scrubber operating data according to all applicable requirements in § 63.7113 and reducing the data according to § 63.7113(a); maintaining the 3-hour block average exhaust gas stream pressure drop across the wet scrubber greater than or equal to the pressure drop operating limit established during the performance test; and maintaining the 3-hour block average scrubbing liquid flow rate greater than or equal to the flow rate operating limit established during the performance test (the continuous scrubbing liquid flow rate measuring device must be accurate within ±1% and the continuous pressure drop measurement device must be accurate within ±1%).
4. For each lime kiln or lime cooler equipped with a FF or an ESP that uses a COMS as the monitoring device | a. Maintain and operate the FF or ESP such that the average opacity for any 6-minute block period does not exceed 15 percent | i. Installing, maintaining, calibrating and operating a COMS as required by 40 CFR part 63, subpart A, General Provisions and according to PS-1 of appendix B to part 60 of this chapter, except as specified in § 63.7113(g)(2); and ii. Collecting the COMS data at a frequency of at least once every 15 seconds, determining block averages for each 6-minute period and demonstrating for each 6-minute block period the average opacity does not exceed 15 percent.
5. Each lime kiln equipped with dry sorbent injection | Maintain the 3-hour block dry sorbent and/or activated carbon flow rate greater than or equal to the injection flow rate operating limit established during the most recent performance test. | Collecting the dry sorbent and/or activated carbon injection operating data according to all applicable requirements in § 63.7113 and reducing the data according to § 63.7113(a); maintaining the 3-hour block average injection flow rate greater than or equal to the injection flow rate operating limit established during the performance test
6. Each lime kiln equipped with a thermal oxidizer | Maintain the 3-hour block average combustion chamber temperature greater or equal to the combustion chamber operating limit established in the most recent performance test | Collecting the thermal oxidizer operating data according to all applicable requirements in § 63.7113 and reducing the data according to § 63.7113(a); maintaining the 3-hour block average combustion chamber temperature greater than or equal to the combustion chamber operating limit established during the performance test.

13. Revise table 8 to subpart AAAAA to read as follows:

Table 8 to Subpart AAAAA of Part 63—Requirements for Reports
[As required in § 63.7131, you must submit each report in this table that applies to you.]
You must submit a . . . | The report must contain . . . | You must submit the report . . .
1. Compliance report | a. If there are no deviations from any emission limitations (emission limit, operating limit, opacity limit, and VE limit) that applies to you, a statement that there were no deviations from the emission limitations during the reporting period; | Semiannually according to the requirements in § 63.7131(b).
| b. If there were no periods during which the CMS, including any operating parameter monitoring system, was out-of-control as specified in § 63.8(c)(7), a statement that there were no periods during which the CMS was out-of-control during the reporting period; | Semiannually according to the requirements in § 63.7131(b).
| c. If you have a deviation from any emission limitation (emission limit, operating limit, opacity limit, and VE limit) during the reporting period, the report must contain the information in § 63.7131(d); | Semiannually according to the requirements in § 63.7131(b).
| d. If there were periods during which the CMS, including any operating parameter monitoring system, was out-of-control, as specified in § 63.8(c)(7), the report must contain the information in § 63.7131(e); and | Semiannually according to the requirements in § 63.7131(b).
| e. Before the relevant compliance date for your source as specified in § 63.7083(g), if you had a startup, shutdown or malfunction during the reporting period and you took actions consistent with your SSMP, the compliance report must include the information in § 63.10(d)(5)(i). On and after the relevant compliance date for your source as specified in § 63.7083(g), if you had a startup, shutdown or malfunction during the reporting period and you failed to meet an applicable standard, the compliance report must include the information in § 63.7131(c)(3). | Semiannually according to the requirements in § 63.7131(b).
2. Before the relevant compliance date for your source as specified in § 63.7083(g), an immediate startup, shutdown, and malfunction report if you had a startup, shutdown, or malfunction during the reporting period that is not consistent with your SSMP | Actions taken for the event | By fax or telephone within 2 working days after starting actions inconsistent with the SSMP.
3. Before the relevant compliance date for your source as specified in § 63.7083(g), an immediate startup, shutdown, and malfunction report if you had a startup, shutdown, or malfunction during the reporting period that is not consistent with your SSMP | The information in § 63.10(d)(5)(ii) | By letter within 7 working days after the end of the event unless you have made alternative arrangements with the permitting authority. See § 63.10(d)(5)(ii).
4. Performance Test Report | The information required in § 63.7(g) and § 63.7112(h) | According to the requirements of § 63.7131.

14. Revise table 10 to subpart AAAAA to read as follows:

Table 10 to Subpart AAAAA of Part 63—Applicability of General Provisions to Subpart AAAAA
[As required in § 63.7140, you must comply with the applicable General Provisions requirements according to the following table.]
Citation | Summary of requirement | Am I subject to this requirement? | Explanations
§ 63.1(a)(1)-(4) | Applicability | Yes |
§ 63.1(a)(5) |  | No |
§ 63.1(a)(6) | Applicability | Yes |
§ 63.1(a)(7)-(a)(9) |  | No |
§ 63.1(a)(10)-(a)(14) | Applicability | Yes |
§ 63.1(b)(1) | Initial Applicability Determination | Yes | §§ 63.7081 and 63.7142 specify additional applicability determination requirements.
§ 63.1(b)(2) |  | No |
§ 63.1(b)(3) | Initial Applicability Determination | Yes |
§ 63.1(c)(1) | Applicability After Standard Established | Yes |
§ 63.1(c)(2) | Permit Requirements | No | Area sources not subject to subpart AAAAA, except all sources must make initial applicability determination.
§ 63.1(c)(3)-(4) |  | No |
§ 63.1(c)(5) | Area Source Becomes Major | Yes |
§ 63.1(c)(6) | Reclassification | Yes |
§ 63.1(d) |  | No |
§ 63.1(e) | Applicability of Permit Program | Yes |
§ 63.2 | Definitions | Yes | Additional definitions in § 63.7143.
§ 63.3(a)-(c) | Units and Abbreviations | Yes |
§ 63.4(a)(1)-(a)(2) | Prohibited Activities | Yes |
§ 63.4(a)(3)-(a)(5) |  | No |
§ 63.4(b)-(c) | Circumvention, Severability | Yes |
§ 63.5(a)(1)-(2) | Construction/Reconstruction | Yes |
§ 63.5(b)(1) | Compliance Dates | Yes |
§ 63.5(b)(2) |  | No |
§ 63.5(b)(3)-(4) | Construction Approval, Applicability | Yes |
§ 63.5(b)(5) |  | No |
§ 63.5(b)(6) | Applicability | Yes |
§ 63.5(c) |  | No |
§ 63.5(d)(1)-(4) | Approval of Construction/Reconstruction | Yes |
§ 63.5(e) | Approval of Construction/Reconstruction | Yes |
§ 63.5(f)(1)-(2) | Approval of Construction/Reconstruction | Yes |
§ 63.6(a) | Compliance for Standards and Maintenance | Yes |
§ 63.6(b)(1)-(5) | Compliance Dates | Yes |
§ 63.6(b)(6) |  | No |
§ 63.6(b)(7) | Compliance Dates | Yes |
§ 63.6(c)(1)-(2) | Compliance Dates | Yes |
§ 63.6(c)(3)-(c)(4) |  | No |
§ 63.6(c)(5) | Compliance Dates | Yes |
§ 63.6(d) |  | No |
§ 63.6(e)(1)(i) | General Duty to Minimize Emissions | Yes before the relevant compliance date for your source as specified in § 63.7083(g) No on and after the relevant compliance date for your source as specified in § 63.7083(g) | On and after the relevant compliance date for your source as specified in § 63.7083(g), see § 63.7100 for general duty requirement.
§ 63.6(e)(1)(ii) | Requirement to Correct Malfunctions ASAP | Yes before the relevant compliance date for your source as specified in § 63.7083(g) No on and after the relevant compliance date for your source as specified in § 63.7083(g) |
§ 63.6(e)(1)(iii) | Operation and Maintenance Requirements | Yes |
§ 63.6(e)(2) |  | No | [Reserved]
§ 63.6(e)(3) | Startup, Shutdown Malfunction Plan | Yes before the relevant compliance date for your source as specified in § 63.7083(g) No on and after the relevant compliance date for your source as specified in § 63.7083(e) | On and after the relevant compliance date for your source as specified in § 63.7083(g), the OM&M plan must address periods of startup and shutdown. See § 63.7100(d).
§ 63.6(f)(1) | SSM exemption | No | See § 63.7100. For periods of startup and shutdown, see § 63.7090(c).
§ 63.6(f)(2)-(3) | Methods for Determining Compliance | Yes |
§ 63.6(g)(1)-(g)(3) | Alternative Standard | Yes |
§ 63.6(h)(1) | SSM exemption | No | See § 63.7100. For periods of startup and shutdown, see § 63.7090(c).
§ 63.6(h)(2) | Methods for Determining Compliance | Yes |
§ 63.6(h)(3) |  | No |
§ 63.6(h)(4)-(h)(5)(i) | Opacity/VE Standards | Yes | This requirement only applies to opacity and VE performance checks required in table 5 to subpart AAAAA.
§ 63.6(h)(5) (ii)-(iii) | Opacity/VE Standards | No | Test durations are specified in subpart AAAAA; subpart AAAAA takes precedence.
§ 63.6(h)(5)(iv) | Opacity/VE Standards | No |
§ 63.6(h)(5)(v) | Opacity/VE Standards | Yes |
§ 63.6(h)(6) | Opacity/VE Standards | Yes |
§ 63.6(h)(7) | COM Use | Yes |
§ 63.6(h)(8) | Compliance with Opacity and VE | Yes |
§ 63.6(h)(9) | Adjustment of Opacity Limit | Yes |
§ 63.6(i)(1)-(i)(14) | Extension of Compliance | Yes |
§ 63.6(i)(15) |  | No |
§ 63.6(i)(16) | Extension of Compliance | Yes |
§ 63.6(j) | Exemption from Compliance | Yes |
§ 63.7(a)(1)-(a)(3) | Performance Testing Requirements | Yes | § 63.7110 specifies deadlines; § 63.7112 has additional specific requirements.
§ 63.7(b) | Notification | Yes |
§ 63.7(c) | Quality Assurance/Test Plan | Yes |
§ 63.7(d) | Testing Facilities | Yes |
§ 63.7(e)(1) | Conduct of Tests | Yes before the relevant compliance date for your source as specified in § 63.7083(g) No on and after the relevant compliance date for your source as specified in § 63.7083(g) | On and after the relevant compliance date for your source as specified in § 63.7083(g), see § 63.7112(b).
§ 63.7(e)(2)-(4) | Conduct of Tests | Yes |
§ 63.7(f) | Alternative Test Method | Yes |
§ 63.7(g) | Data Analysis | Yes |
§ 63.7(h) | Waiver of Tests | Yes |
§ 63.8(a)(1) | Monitoring Requirements | Yes | See § 63.7113.
§ 63.8(a)(2) | Monitoring | Yes |
§ 63.8(a)(3) |  | No |
§ 63.8(a)(4) | Monitoring | No | Flares not applicable.
§ 63.8(b)(1)-(3) | Conduct of Monitoring | Yes |
§ 63.8(c)(1)(i) | CMS Operation/Maintenance | Yes before the relevant compliance date for your source as specified in § 63.7083(g) No on and after the relevant compliance date for your source as specified in § 63.7083(e) | On and after the relevant compliance date for your source as specified in § 63.7083(g), see § 63.7100 for OM&M requirements.
§ 63.8(c)(1)(ii) | CMS Spare Parts | Yes |
§ 63.8(c)(1)(iii) | Requirement to Develop SSM Plan for CMS | Yes before the relevant compliance date for your source as specified in § 63.7083(g) No on and after the relevant compliance date for your source as specified in § 63.7083(g) | On and after the relevant compliance date for your source as specified in § 63.7083(g), no longer required.
§ 63.8(c)(2)-(3) | CMS Operation/Maintenance | Yes |
§ 63.8(c)(4) | CMS Requirements | No | See § 63.7121.
§ 63.8(c)(4)(i)-(ii) | Cycle Time for COM and CEMS | Yes | No CEMS are required under subpart AAAAA; see § 63.7113 for CPMS requirements.
§ 63.8(c)(5) | Minimum COM procedures | Yes | COM not required.
§ 63.8(c)(6) | CMS Requirements | No | See § 63.7113.
§ 63.8(c)(7)-(8) | CMS Requirements | Yes |
§ 63.8(d)(1)-(2) | Quality Control | Yes | See also § 63.7113.
§ 63.8(d)(3) | Quality Control | Yes before the relevant compliance date for your source as specified in § 63.7083(g) No on and after the relevant compliance date for your source as specified in § 63.7083(g) |
§ 63.8(e) | Performance Evaluation for CMS | Yes | See also § 63.7113
§ 63.8(f)(1)-(f)(5) | Alternative Monitoring Method | Yes |
§ 63.8(f)(6) | Alternative to Relative Accuracy Test for CEMS | No | No CEMS required in subpart AAAAA.
§ 63.8(g)(1)-(g)(5) | Data Reduction; Data That Cannot Be Used | No | See data reduction requirements in §§ 63.7120 and 63.7121.
§ 63.9(a) | Notification Requirements | Yes | See § 63.7130.
§ 63.9(b) | Initial Notifications | Yes |
§ 63.9(c) | Request for Compliance Extension | Yes |
§ 63.9(d) | New Source Notification for Special Compliance Requirements | Yes |
§ 63.9(e) | Notification of Performance Test | Yes |
§ 63.9(f) | Notification of VE/Opacity Test | Yes | This requirement only applies to opacity and VE performance tests required in table 5 to subpart AAAAA. Notification not required for VE/opacity test under table 7 to subpart AAAAA.
§ 63.9(g) | Additional CMS Notifications | No | Not required for operating parameter monitoring.
§ 63.9(h)(1)-(h)(3) | Notification of Compliance Status | Yes |
§ 63.9(h)(4) |  | No |
§ 63.9(h)(5)-(h)(6) | Notification of Compliance Status | Yes |
§ 63.9(i) | Adjustment of Deadlines | Yes |
§ 63.9(j) | Change in Previous Information | Yes |
§ 63.9(k) | Electronic reporting procedures | Yes | Only as specified in § 63.9(j)
§ 63.10(a) | Recordkeeping/Reporting General Requirements | Yes | See §§ 63.7131 through 63.7133.
§ 63.10(b)(1) | Records | Yes |
§ 63.10(b)(2)(i) | Recordkeeping of Occurrence and Duration of Startups and Shutdowns | Yes before the relevant compliance date for your source as specified in § 63.7083(g) No on and after the relevant compliance date for your source as specified in § 63.7083(g) |
§ 63.10(b)(2)(ii) | Recordkeeping of Failures to Meet a Standard | Yes before the relevant compliance date for your source as specified in § 63.7083(g) No on and after the relevant compliance date for your source as specified in § 63.7083(g) | On and after the relevant compliance date for your source as specified in § 63.7083(g), see § 63.7132 for recordkeeping of (1) date, time and duration; (2) listing of affected source or equipment, and an estimate of the quantity of each regulated pollutant emitted over the standard; and (3) actions to minimize emissions and correct the failure.
§ 63.10(b)(2)(iii) | Maintenance Records | Yes |
§ 63.10(b)(2)(iv)-(v) | Actions Taken to Minimize Emissions During SSM | Yes before the relevant compliance date for your source as specified in § 63.7083(g) No on and after the relevant compliance date for your source as specified in § 63.7083(e) | On and after the relevant compliance date for your source as specified in § 63.7083(g), see § 63.7100 for OM&M requirements.
§ 63.10(b)(2)(vi)-(xii) | Recordkeeping for CMS | Yes |
§ 63.10(b)(2)(xiii) | Records for Relative Accuracy Test | No |
§ 63.10(b)(2)(xiv) | Records for Notification | Yes |
§ 63.10(b)(3) | Applicability Determinations | Yes |
§ 63.10(c) | Additional CMS Recordkeeping | No | See § 63.7132.
§ 63.10(d)(1) | General Reporting Requirements | Yes |
§ 63.10(d)(2) | Performance Test Results | Yes |
§ 63.10(d)(3) | Opacity or VE Observations | Yes | For the periodic monitoring requirements in table 7 to subpart AAAAA, report according to § 63.10(d)(3) only if VE observed and subsequent visual opacity test is required.
§ 63.10(d)(4) | Progress Reports | Yes |
§ 63.10(d)(5)(i) | Periodic Startup, Shutdown, Malfunction Reports | Yes before the relevant compliance date for your source as specified in § 63.7083(g) No on and after the relevant compliance date for your source as specified in § 63.7083(g) | On and after the relevant compliance date for your source as specified in § 63.7083(g), see § 63.7131 for malfunction reporting requirements.
§ 63.10(d)(5)(ii) | Immediate Startup, Shutdown, Malfunction Reports | Yes before the relevant compliance date for your source as specified in § 63.7083(g) No on and after the relevant compliance date for your source as specified in § 63.7083(g) |
§ 63.10(e) | Additional CMS Reports | No | See specific requirements in subpart AAAAA, see § 63.7131.
§ 63.10(f) | Waiver for Recordkeeping/Reporting | Yes |
§ 63.11(a)-(b) | Control Device and Work Practice Requirements | No | Flares not applicable.
§ 63.12(a)-(c) | State Authority and Delegations | Yes |
§ 63.13(a)-(c) | State/Regional Addresses | Yes |
§ 63.14(a)-(b) | Incorporation by Reference | No |
§ 63.15(a)-(b) | Availability of Information and Confidentiality | Yes |
§ 63.16 | Performance Track Provisions | Yes |

[FR Doc. 2024-27874 Filed 12-3-24; 8:45 am]

BILLING CODE 6560-50-P